DEPARTMENT OF STATE

[Delegation of Authority No. 166-2]

Delegation by the Deputy Secretary to the Legal Adviser of Authority To Settle Claims Under the Federal Tort Claims Act and 22 U.S.C. 2669-1

By virtue of the authority vested in the Secretary of State, including section 1 of the State Department Basic Authorities Act, as amended (22 U.S.C. 2651a), and by the Federal Tort Claims Act (28 U.S.C. 2671 et seq.), and 22 U.S.C. 2669-1, and delegated to the Deputy Secretary of State pursuant to Delegation of Authority 245 of April 23, 2001, I hereby delegate to the Legal Adviser and the Deputy Legal Advisers authority to consider, ascertain, adjust, determine, compromise and settle claims capable of administrative settlement under the Federal Tort Claims Act and 22 U.S.C. 2669-1, except claims arising out of activities of the International Boundary and Water Commission.

The Legal Adviser may redelegate to the Assistant Legal Adviser and Deputy Assistant Legal Adviser responsible for claims matters the functions delegated in the preceding paragraph, including authority to deny all claims.

Any authority covered by this delegation may also be exercised by the Secretary or the Deputy Secretary.

This Delegation of Authority supersedes DA-166.

This Delegation of Authority shall be published in the Federal Register.

Dated: May 30, 2008.
John D. Negroponte,
Deputy Secretary of State, Department of State.

[FR Doc. E8-13070 Filed 6-10-08; 8:45 am]

BILLING CODE 4710-08-P